DEPARTMENT OF AGRICULTURE

Animal and Plant Health Inspection Service

7 CFR Part 354

[Docket No. APHIS-2009-0048]

RIN 0579-AC99

User Fees for Agricultural Quarantine and Inspection Services

AGENCY: Animal and Plant Health Inspection Service, USDA.

ACTION: Interim rule; withdrawal.

SUMMARY: This document withdraws the interim rule published in the Federal Register on September 28, 2009, adjusting the user fees charged for certain agricultural quarantine and inspection services provided in connection with certain commercial vessels, commercial trucks, commercial railroad cars, commercial aircraft, and international airline passengers arriving at ports in the customs territory of the United States. That interim rule was originally scheduled to become effective on October 1, 2009, but on October 2, 2009, we published in the Federal Register a second document delaying the effective date until November 1, 2009. We have now decided to withdraw the interim rule in order to explore other regulatory alternatives.

DATES: The withdrawal of the interim rule amending 7 CFR part 354 published at 74 FR 49311-49315 on September 28, 2009, and delayed in a document published at 74 FR 50915 on October 2, 2009, is effective October 30, 2009.

FOR FURTHER INFORMATION CONTACT: For information concerning program operations, contact Mr. William E. Thomas, Director, Quarantine Policy, Analysis, and Support, PPQ, APHIS, 4700 River Road Unit 131, Riverdale, MD 20737; (301) 7345214. For information concerning rate development, contact Mrs. Kris Caraher, User Fee Section, Financial Services Branch, Financial Management Division, MRPBS, APHIS, 4700 River Road Unit 55, Riverdale, MD 20737-1232; (301) 734-0882.

SUPPLEMENTARY INFORMATION:

Background

In an interim rule ¹ published in the Federal Register on September 28, 2009 (74 FR 49311-49315, Docket No. APHIS-2009-0048), we amended the user fee regulations in 7 CFR part 354 by adjusting the fees charged for certain agricultural quarantine and inspection (AQI) services that are provided in connection with certain commercial vessels, commercial trucks, commercial railroad cars, commercial aircraft, and international airline passengers arriving at ports in the customs territory of the United States. The rule was scheduled to become effective on October 1, 2009. On October 2, 2009, however, we published a second document in the Federal Register (74 FR 50915, Docket No. APHIS-2009-0048) delaying the effective date of the interim rule until November 1, 2009. The delay was intended to provide entities affected by the changes in AQI user fees additional time to make the necessary preparations to comply with the new fees. In conjunction with the delay, public meetings on the interim rule were held in Riverdale, MD, on October 15 and October 27, 2009. Transcripts of the meetings will be made available on the Regulations.gov Web site.²

¹ To view the interim rule and the delay of effective date, go to: http://www.regulations.gov/fdmspublic/component/main?main=DocketDetail&d=APHIS-2009-0048.

² See footnote 1.

We have now decided to withdraw the interim rule in order to explore other regulatory alternatives.

Accordingly, the interim rule amending 7 CFR part 354 published at 74 FR 49311-49315 on September 28, 2009, and delayed in a document published at 74 FR 50915 on October 2, 2009, is withdrawn effective October 30, 2009.

Authority: 7 U.S.C. 7701-7772, 7781-7786, and 8301-8317; 21 U.S.C. 136 and 136a; 49 U.S.C. 80503; 7 CFR 2.22, 2.80, and 371.3.

Done in Washington, DC, this 30th day of October 2009.
Kevin Shea,
Acting Administrator, Animal and Plant Health Inspection Service.

[FR Doc. E9-26518 Filed 10-30-09; 4:15 pm]

BILLING CODE 3410-34-P